DEPARTMENT OF COMMERCE

National Oceanic and Atmospheric Administration

50 CFR Part 679

RIN 0648-BF29

Fisheries of the Exclusive Economic Zone Off Alaska; Bering Sea and Aleutian Islands Management Area; Amendment 111

AGENCY: National Marine Fisheries Service (NMFS), National Oceanic and Atmospheric Administration (NOAA), Commerce.

ACTION: Notice of availability of amendment to fishery management plan; request for comments.

SUMMARY: The North Pacific Fishery Management Council (Council) has submitted Amendment 111 to the Fishery Management Plan for Groundfish of the Bering Sea and Aleutian Islands Management Area (FMP) to the Secretary of Commerce (Secretary) for review. Amendment 111 to the FMP would reduce bycatch limits, also known as Prohibited Species Catch (PSC) limits, by specific amounts in four groundfish sectors: the Amendment 80 sector (non-pollock trawl catcher/processors); the BSAI trawl limited access sector (all non-Amendment 80 trawl fishery participants); the BSAI non-trawl sector (primarily hook-and-line catcher/processors); and the Western Alaska Community Development Quota Program (CDQ Program, also referred to as the CDQ sector). This action is intended to promote the goals and objectives of the Magnuson-Stevens Fishery Conservation and Management Act (Magnuson-Stevens Act), the FMP, and other applicable laws.

DATES: Submit comments on or before December 28, 2015.

ADDRESSES: You may submit comments on this document, identified by NOAA-NMFS-2015-0092, by any one of the following methods:

• Electronic Submission: Submit all electronic public comments via the Federal e-Rulemaking portal. Go to www.regulations.gov/#!docketDetail;D=NOAA-NMFS-2015-0092, click the “Comment Now!” icon, complete the required fields, and enter or attach your comments.

• Mail: Address written comments to Glenn Merrill, Assistant Regional Administrator, Sustainable Fisheries Division, Alaska Region NMFS, Attn: Ellen Sebastian. Mail comments to P.O. Box 21668, Juneau, AK 99802.

Instructions: Comments sent by any other method, to any other address or individual, or received after the end of the comment period, may not be considered. All comments received are a part of the public record and will generally be posted for public viewing on http://www.regulations.gov without change. All personal identifying information (e.g., name, address) confidential business information, or otherwise sensitive information voluntarily submitted by the commenter will be publicly accessible. NMFS will accept anonymous comments (enter N/A in the required fields, if you wish to remain anonymous).

Electronic copies of Amendment 111 to the FMP, the Environmental Assessment/Regulatory Impact Review/Initial Regulatory Flexibility Analysis prepared for this action, and the Finding of No Significant Impact (FONSI) prepared for this action may be obtained from http://www.regulations.gov or from the Alaska Region Web site at http://www.alaskafisheries/noaa.gov.

FOR FURTHER INFORMATION CONTACT: Mary Alice McKeen, 907-586-7228.

SUPPLEMENTARY INFORMATION: The Council has submitted Amendment 111 to the FMP to the Secretary for review. If approved, Amendment 111 would reduce bycatch limits, also known as prohibited species catch (PSC) limits, of Pacific halibut in the Bering Sea Aleutian Islands (BSAI) groundfish fisheries by specific amounts in four groundfish sectors: the Amendment 80 sector; the BSAI trawl limited access; the BSAI non-trawl sector; and the CDQ sector. Amendment 111 is necessary to minimize halibut bycatch in the BSAI groundfish fisheries to the extent practicable and to achieve, on a continuing basis, optimum yield from the BSAI groundfish fisheries. Amendment 111 is intended to promote the goals and objectives of the Magnuson-Stevens Act, the FMP, and other applicable laws.

The Magnuson-Stevens Act requires that each regional fishery management council submit any fishery management plan amendment it prepares to NMFS for review and approval, disapproval, or partial approval by the Secretary. The Magnuson-Stevens Act also requires that NMFS, upon receiving a fishery management plan amendment, immediately publish a document in the Federal Register announcing that the amendment is available for public review and comment. This document announces that proposed Amendment 111 to the FMP is available for public review and comment.

If approved, Amendment 111 would reduce the halibut PSC limits for the Amendment 80 sector by 25 percent, from 2,325 mt to 1,745 mt; for the BSAI trawl limited access fisheries by 15 percent, from 875 mt to 745 mt.; for the BSAI non-trawl sector, by 15 percent, from 833 mt to 710 mt.; and for the CDQ sector by 20 percent, from 393 mt to 315 mt.

In submitting Amendment 111 to the Secretary, the Council and NMFS considered all the National Standards in section 301 of the Magnuson-Stevens Act, but four national standards figured prominently in their consideration of Amendment 111: National Standard 1, National Standard 4, National Standard 8, and National Standard 9. Amendment 111 would minimize halibut bycatch to the extent practicable, consistent with National Standard 9, while achieving, on a continuing basis, optimum yield from the BSAI groundfish fisheries, consistent with National Standard 1. Amendment 111 does not discriminate between residents of different states and assigns allocations of halibut PSC limits in manner that is fair and equitable consistent with National Standard 4. Amendment 111 takes into account the impact of its provisions on fishing communities in order to provide for the sustained participation of those communities and, to the extent practicable, to minimize adverse economic impacts on such communities, consistent with National Standard 8. Amendment 111 may provide additional opportunities for directed commercial halibut fishing, if the International Pacific Halibut Commission increases the commercial catch limit for the directed halibut fishery in response to this action.

In addition to reducing the BSAI halibut PSC limits, Amendment 111 would change two features of current halibut PSC management. First, Amendment 111 would establish the PSC limit for the CDQ sector as a separate limit. Under current FMP provisions, the PSC limit for the CDQ sector is taken partly from the overall trawl PSC limit and the overall non-trawl PSC limit. Second, Amendment 111 would change a feature of the halibut PSC limit for the Amendment 80 sector. Within the Amendment 80 sector, the halibut PSC limit is divided annually between Amendment 80 cooperatives and the Amendment 80 limited access fishery, which consists of vessels that choose that year to fish outside of an Amendment 80 cooperative. In the current regulation, any halibut PSC that is not assigned to an Amendment 80 cooperative is assigned to the Amendment 80 limited access fishery. Under Amendment 111, if any Amendment 80 vessels fish in the Amendment 80 limited access fishery, NMFS would reduce the halibut PSC in the Amendment 80 limited access fishery for that year by 20 percent compared to the PSC amount that NMFS would have allocated to cooperatives for that year if those vessels had fished through cooperatives.

Amendment 111 would amend Section 3.6.2.1.4 of the FMP to specify the BSAI halibut PSC limits for the four groundfish sectors; amend Section 3.7.4.6 of the FMP and specify a separate PSC limit for the CDQ sector; amend Section 3.7.5.2 so that it would establish the halibut PSC limit for the Amendment 80 sector as 1,745 mt and the halibut PSC limit for the BSAI trawl limited access sector as 745 mt; and amend Section 3.7.5.2 so that it establishes an additional 20 percent reduction in the halibut PSC limit for the Amendment 80 vessels that participate in the Amendment 80 limited access fishery. Amendment 111 would make two minor revisions to Table ES-2 to include the revised halibut PSC limits and would amend Appendix A to note the revisions that Amendment 111 would make to the halibut PSC limits adopted under Amendment 80 to the FMP (72 FR 52668, September 14, 2007).

NMFS is soliciting public comments on proposed Amendment 111 through the end of the comment period (see DATES). NMFS intends to publish in the Federal Register and seek public comment on a proposed rule that would implement Amendment 111, following NMFS' evaluation of the proposed rule under the Magnuson-Stevens Act. All comments received by the end of the comment period on Amendment 111, whether specifically directed to the FMP amendment or the proposed rule, will be considered in the approval/disapproval decision on Amendment 111. Comments received after that date may not be considered in the approval/disapproval decision on Amendment 111. To be certain of consideration, comments must be received, not just postmarked or otherwise transmitted, by the last day of the comment period.

Authority: 16 U.S.C. 1801 et seq.

Dated: October 26, 2015.
Emily H. Menashes,
Acting Director, Office of Sustainable Fisheries, National Marine Fisheries Service.

[FR Doc. 2015-27608 Filed 10-28-15; 8:45 am]

BILLING CODE 3510-22-P